DEPARTMENT OF JUSTICE

Antitrust Division

Notice Pursuant to the National Cooperative Research and Production Act of 1993—Microcontaminant Reduction Venture

Notice is hereby given that, on June 15, 2004, pursuant to section 6(a) of the National Cooperative Research and Production Act of 1993, 15 U.S.C. 4301 et seq. (“the Act”), Microcontaminant Reduction Venture has filed written notifications simultaneously with the Attorney General and the Federal Trade Commission disclosing changes in its project status. The notifications were filed for the purpose of extending the Act's provisions limiting the recovery of antitrust plaintiffs to actual damages under specified circumstances. Specifically, the parties to the venture, KMG-Bernuth, Inc., Houston, TX, and Vulcan Materials Company, Birmingham, AL, have extended the term of the Venture from three to four years.

No other changes have been made in either the membership or planned activity of the group research project. Membership in this group research project remains open, and Microcontaminant Reduction Venture intends to file additional written notification disclosing all changes in membership.

On June 13, 2001, Microcontaminant Reduction Venture filed its original notification pursuant to section 6(a) of the Act. The Department of Justice published a notice in the Federal Register pursuant to section 6(b) of the Act on July 19, 2001 (66 FR 37709).

The last notification was filed with the Department on August 14, 2003. A notice was published in the Federal Register pursuant to section 6(b) of the Act on September 8, 2003 (68 FR 52958).

Dorothy B. Fountain,
Deputy Director of Operations, Antitrust Division.

[FR Doc. 04-15873 Filed 7-13-04; 8:45 am]

BILLING CODE 4410-11-M